DEPARTMENT OF THE INTERIOR

National Park Service

[N6456; NPS-WASO-NAGPRA-NPS0040878; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of objects of cultural patrimony and that have a cultural affiliation with the Indian Tribes or Native Hawaiian organizations in this notice.

DATES: Repatriation of the cultural items in this notice may occur on or after September 22, 2025.

ADDRESSES: Send additional, written requests for repatriation of the cultural items in this notice to Elise-Alexandria Green, Sonoma State University, 1801 East Cotati Avenue, Rohnert Park, CA 94928, email greeneli@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of 39 cultural items have been requested for repatriation. The 39 of objects of cultural patrimony are flaked stone tools, modified shell, shell beads, ground stone tools, debitage, and historic-period items. Based on records concerning the cultural items and the institution in which they were housed, there is no evidence of the 39 of cultural items being treated with hazardous substances.

A total of 17 of the items were removed from CA-LAK-142 near Witter Springs in Lake County, CA. There is a lack of clear information available for this collection. A form filled out by John Parker dating 09/10/1973 notes that the items were removed during a surface survey filed under “Clear Lake Surveys (John Parker)”. This report has not been relocated in any ASC files (hardcopy or digital). Items have been curated at Sonoma State University under the accession number 73-07.

A total of six of the items were removed from CA-LAK-0826/H in Lake County, CA. Two of the items were removed from CA-LAK-0835/H in Lake County, CA. Six of the items were removed from CA-LAK-0932/H in Lake County, CA. Two of the items were removed from CA-LAK- 0933/H in Lake County, CA. Two of the items were removed from CA-LAK-0934/H in Lake County, CA. Two items were removed from CA-LAK-0935 in Lake County, CA. The last two of the items were removed from CA-LAK-0936/H in Lake County, CA. These sites are all located within the census designated place (CDP) of Upper Lake. The items are affiliated with archaeological work carried in 1977 out by Upper Lake Wastewater System.

However, the report from this survey does not mention collection at any of these sites during this project, so exact collection history cannot be determined. Items have been curated at Sonoma State University under the accession number 78-08.

Determinations

The Sonoma State University has determined that:

• The 39 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Habematolel Pomo of Upper Lake, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 22, 2025. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: August 13, 2025.
Melanie O'Brien,
Manager, National NAGPRA Program.

[FR Doc. 2025-16115 Filed 8-21-25; 8:45 am]

BILLING CODE 4312-52-P